DEPARTMENT OF ENERGY

Federal Energy Regulatory Commission

Combined Notice of Filings #2

Take notice that the Commission received the following electric rate filings:

Docket Numbers: ER10-2374-004; ER10-1533-005.

Applicants: Puget Sound Energy, Inc., Macquarie Energy LLC.

Description: Triennial Updated Market Power Analysis in the Northwest Region of Puget Sound Energy, Inc., et. al.

Filed Date: 6/28/13.

Accession Number: 20130628-5138.

Comments Due: 5 p.m. ET 8/27/13.

Docket Numbers: ER10-2864-001; ER10-2863-001; ER10-2867-001; ER10-2862-001.

Applicants: Las Vegas Cogeneration LP, Las Vegas Cogeneration II, LLC, Valencia Power, LLC, Harbor Cogeneration Company, LLC.

Description: Triennial Market Power Analysis of SGOC Southwest MBR Sellers for the Southwest Region.

Filed Date: 6/28/13.

Accession Number: 20130628-5216.

Comments Due: 5 p.m. ET 8/27/13.

Docket Numbers: ER10-2994-008; ER10-2822-004; ER10-3158-004; ER10-3159-003; ER10-1720-004; ER12-308-004; ER10-3162-004; ER10-3161-004.

Applicants: Iberdrola Renewables, LLC, Atlantic Renewable Projects II LLC, Dillon Wind LLC, Dry Lake Wind Power, LLC, Dry Lake Wind Power II LLC, Manzana Wind LLC, Mountain View Power Partners III, LLC, Shiloh I Wind Project, LLC.

Description: Updated Market Power Analysis for the Southwest Region of Iberdrola Renewables, LLC, et. al.

Filed Date: 6/28/13.

Accession Number: 20130628-5225.

Comments Due: 5 p.m. ET 8/27/13.

Docket Numbers: ER11-4436-002; ER10-2473-003; ER10-2502-003; ER10-2472-003; ER11-2424-011.

Applicants: Black Hills Power, Inc., Cheyenne Light Fuel & Power Company, Black Hills/Colorado Electric Utility Co, Black Hills Colorado IPP, LLC, Black Hills Wyoming, LLC.

Description: Updated Market Power Analysis of the Black Hills Corporation Public Utilities for the Northwest Region.

Filed Date: 6/28/13.

Accession Number: 20130628-5181.

Comments Due: 5 p.m. ET 8/27/13.

Docket Numbers: ER12-1320-001.

Applicants: Desert View Power, Inc.

Description: Desert View Power, Inc. submits tariff filing per 35: Notice of Change in Status to be effective 8/28/2013.

Filed Date: 6/28/13.

Accession Number: 20130628-5182.

Comments Due: 5 p.m. ET 7/19/13.

Docket Numbers: ER13-1700-001.

Applicants: KASS Commodities.

Description: KASS Commodities submits tariff filing per 35.17(b): Amended MBR Tariff Filing to be effective 7/8/2013.

Filed Date: 6/28/13.

Accession Number: 20130628-5150.

Comments Due: 5 p.m. ET 7/19/13.

Docket Numbers: ER13-1840-000.

Applicants: Southwest Power Pool, Inc.

Description: Southwest Power Pool, Inc. submits tariff filing per 35.13(a)(2)(iii): 1628R5 Western Farmers Electric Cooperative NITSA NOA to be effective 6/1/2013.

Filed Date: 6/28/13.

Accession Number: 20130628-5130.

Comments Due: 5 p.m. ET 7/19/13.

Docket Numbers: ER13-1841-000.

Applicants: Southwest Power Pool, Inc.

Description: Southwest Power Pool, Inc. submits tariff filing per 35.13(a)(2)(iii): 607R19 Westar Energy, Inc. NITSA and NOAs to be effective 6/1/2013.

Filed Date: 6/28/13.

Accession Number: 20130628-5131.

Comments Due: 5 p.m. ET 7/19/13.

Docket Numbers: ER13-1842-000.

Applicants: PacifiCorp.

Description: PacifiCorp submits tariff filing per 35.13(a)(2)(iii): BPA Cooperative Communications Agreement 6th Revised to be effective 8/28/2013.

Filed Date: 6/28/13.

Accession Number: 20130628-5136.

Comments Due: 5 p.m. ET 7/19/13.

Docket Numbers: ER13-1843-000.

Applicants: Walnut Creek Energy, LLC.

Description: Walnut Creek Energy, LLC submits tariff filing per 35.37: Triennial Market Power Analysis for the Southwest Region to be effective 6/29/2013.

Filed Date: 6/28/13.

Accession Number: 20130628-5145.

Comments Due: 5 p.m. ET 8/27/13.

Docket Numbers: ER13-1844-000.

Applicants: High Lonesome Mesa, LLC.

Description: High Lonesome Mesa, LLC submits tariff filing per 35.37: Triennial Market Power Analysis for the Southwest Region to be effective 6/29/2013.

Filed Date: 6/28/13.

Accession Number: 20130628-5146.

Comments Due: 5 p.m. ET 8/27/13.

Docket Numbers: ER13-1845-000.

Applicants: Midway-Sunset Cogeneration Company.

Description: Triennial Market Power Analysis for the Southwest Region to be effective 6/29/2013.

Filed Date: 6/28/13.

Accession Number: 20130628-5148.

Comments Due: 5 p.m. ET 8/27/13.

Docket Numbers: ER13-1846-000.

Applicants: Coalinga Cogeneration Company.

Description: Triennial Market Power Analysis for the Southwest Region to be effective 6/29/2013.

Filed Date: 6/28/13.

Accession Number: 20130628-5149.

Comments Due: 5 p.m. ET 8/27/13.

Docket Numbers: ER13-1847-000.

Applicants: Watson Cogeneration Company.

Description: Triennial Market Power Analysis for the Southwest Region to be effective 6/29/2013.

Filed Date: 6/28/13.

Accession Number: 20130628-5151.

Comments Due: 5 p.m. ET 8/27/13.

Docket Numbers: ER13-1848-000.

Applicants: Southern California Edison Company.

Description: Southern California Edison Company submits tariff filing per 35.13(a)(2)(iii): Amended Service Agmts for Wholesale Distribution Serv for Devers-Mirage Project to be effective 6/1/2013.

Filed Date: 6/28/13.

Accession Number: 20130628-5152.

Comments Due: 5 p.m. ET 7/19/13.

Docket Numbers: ER13-1849-000.

Applicants: Kern River Cogeneration Company.

Description: Triennial Market Power Analysis for the Southwest Region to be effective 6/29/2013.

Filed Date: 6/28/13.

Accession Number: 20130628-5156.

Comments Due: 5 p.m. ET 8/27/13.

Docket Numbers: ER13-1850-000.

Applicants: Mid-Set Cogeneration Company.

Description: Triennial Market Power Analysis for the Southwest Region to be effective 6/29/2013.

Filed Date: 6/28/13.

Accession Number: 20130628-5159.

Comments Due: 5 p.m. ET 8/27/13.

Docket Numbers: ER13-1851-000.

Applicants: New England Power Pool Participants Committee, ISO New England Inc.

Description: New England Power Pool Participants Committee Winter 2013-2014 Reliability Program to be effective 8/27/2013.

Filed Date: 6/28/13.

Accession Number: 20130628-5161.

Comments Due: 5 p.m. ET 7/19/13.

Docket Numbers: ER13-1852-000.

Applicants: Sargent Canyon Cogeneration Company.

Description: Triennial Market Power Analysis for the Southwest Region to be effective 6/29/2013.

Filed Date: 6/28/13.

Accession Number: 20130628-5168.

Comments Due: 5 p.m. ET 8/27/13.

Docket Numbers: ER13-1853-000.

Applicants: Sunrise Power Company, LLC.

Description: Triennial Market Power Analysis for the Southwest Region to be effective 6/29/2013.

Filed Date: 6/28/13.

Accession Number: 20130628-5172.

Comments Due: 5 p.m. ET 8/27/13.

Docket Numbers: ER13-1854-000.

Applicants: Sycamore Cogeneration Company.

Description: Triennial Market Power Analysis for the Southwest Region to be effective 6/29/2013.

Filed Date: 6/28/13.

Accession Number: 20130628-5176.

Comments Due: 5 p.m. ET 8/27/13.

Docket Numbers: ER13-1855-000.

Applicants: XO Energy SW, LP.

Description: XO Energy SW, LP Baseline New to be effective 7/1/2013.

Filed Date: 6/28/13.

Accession Number: 20130628-5177.

Comments Due: 5 p.m. ET 7/19/13.

Docket Numbers: ER13-1856-000.

Applicants: Citizens Sunrise Transmission LLC.

Description: Annual Operating Cost True-Up Adjustment Informational Filing to be effective 7/1/2013.

Filed Date: 6/28/13.

Accession Number: 20130628-5178.

Comments Due: 5 p.m. ET 7/19/13.

Docket Numbers: ER13-1857-000.

Applicants: Idaho Power Company.

Description: Triennial and Change in Status June 2013 to be effective 8/5/2010.

Filed Date: 6/28/13.

Accession Number: 20130628-5221.

Comments Due: 5 p.m. ET 7/19/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 28, 2013.
Nathaniel J. Davis, Sr.,
Deputy Secretary.

[FR Doc. 2013-16326 Filed 7-5-13; 8:45 am]

BILLING CODE 6717-01-P